UNIFORMED SERVICES UNIVERSITY OF THE HEALTH SCIENCES

Sunshine Act Meeting

Agency Holding the Meeting: Uniformed Services University of the Health Sciences.

Time and Date: 8 a.m. to 4 p.m., May 17, 2002.

Place: Uniformed Services University of the Health Sciences, Board of Regents Conference Room (D3001), 4301 Jones Bridge Road Bethesda, MD 20814-4799.

Status: Open—under “Government in the sunshine Act” (5 U.S.C. 552b(e)(3)).

Matters to be Considered:

8 a.m. Meeting—Board of Regents

(1) Approval of Minutes—February 27, 2002

(2) Faculty Matters

(3) Departmental Reports

(4) Financial Report

(5) Report—President, USUHS

(6) Report—Dean, School of Medicine

(7) Report—Dean Graduate School of Nursing

(8) Comments—Chairman, Board of Regents

(9) New Business

FOR MORE INFORMATION CONTACT: Mr. Bobby D. Anderson, Executive Secretary Board of Regents, (301) 295-3116.

Dated: April 10, 2002.
Patricia L. Toppings,
OSD Federal Register Liaison Officer, Department of Defense.

[FR Doc. 02-9138 Filed 4-10-02; 8:45 am]

BILLING CODE 5001-08-M